DEPARTMENT OF HEALTH AND HUMAN SERVICES

Centers for Disease Control and Prevention

[60Day-07-0650]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan F. Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Prevention Research Center Information System—Extension—National Center for Chronic Disease Prevention and Health Promotion (NCCDPHP), Centers for Disease Control and Prevention (CDC).

Background and Brief Description:

In spring 2003, CDC published Program Announcement #04003 (FY 2003-2009) for the Prevention Research Centers Program. The Program Announcement introduced a set of performance indicators developed collaboratively with the Prevention Research Centers (PRCs) and other stakeholders and are consistent with federal requirements that all agencies, in response to the Government Performance and Results Act of 1993, prepare performance plans and collect program-specific performance measures. Currently, CDC provides funding to 33 PRCs selected through competitive peer review process and managed as CDC cooperative agreements. Awards are made for five (5) years and may be renewed through a competitive process. PRCs are housed in a school of public health, medicine, or osteopathy and conduct health promotion and disease prevention research using a community-based participatory approach.

In accordance with the current OMB approval for the Prevention Research Centers (PRC) Information System, (OMB 0920-0650, expiration November 30, 2007), this requested 3 year extension will continue the data collection as approved. The Information System (IS) is a web-based, password protected technical reporting system that allows the accurate, uniform, and complete collection of PRC information using the Internet. The IS allows CDC to monitor and report on PRC activities efficiently and effectively. Data reported to CDC through the PRC IS are used to identify training and technical assistance needs, monitor compliance with cooperative agreement requirements, evaluate the progress made in achieving center-specific goals and objectives, and obtain information needed to describe the impact and effectiveness of the overall program as needed to respond to Congressional and other inquiries regarding the PRC Program. The annual report and record keeping burden is essentially the same as the currently approved Information Collection.

There are no costs to respondents except their time to participate in the survey.

Estimated Annualized Burden Hours
Respondents | Number of respondents | Number of responses per respondent | Average burden per response (in hrs.) | Total burden (hours)
Clerical | 33 | 2 | 2.75 | 182
Directors | 33 | 2 | 1.5 | 99
Total |  |  |  | 281

Dated: January 11, 2007.
Joan F. Karr,
Acting Reports Clearance Officer, Centers for Disease Control and Prevention.

[FR Doc. E7-770 Filed 1-19-07; 8:45 am]

BILLING CODE 4163-18-P